DEPARTMENT OF HOUSING AND URBAN DEVELOPMENT

[Docket No. FR-5030-FA-21]

Announcement of Funding Awards for the Section 811 Supportive Housing for Persons With Disablilities Program—Fiscal Year 2006

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Supportive Housing for Persons With Disabilities Program. This announcement contains the names of the awardees and the amounts of the awards made available by HUD.

FOR FURTHER INFORMATION CONTACT: Mr. Willie Spearmon, Director, Office of Housing Assistance and Grant Administration, 451 Seventh Street, SW., Washington, DC 20410-8000; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Section 811 Supportive Housing for Persons With Disabilities Program is authorized by section 811 of the National Affordable Housing Act (42 U.S.C. 8013). The competition was announced in the SuperNOFA published in the Federal Register on March 8, 2006 (71 FR 12030). Applications were rated and selected for funding on the basis of selection criteria contained in that notice.

The Catalog of Federal Domestic Assistance number for this program is 14.181.

The Section 811 Supportive Housing for Persons With Disabilities Program is designed to provide capital advance funds to nonprofit organizations for the development of independent living projects, group homes and condominium units with the availability of supportive services for very low-income adults 18 years or older with disabilities. Project rental assistance contract funds are also provided to cover the difference between the HUD-approved operating costs of the project and the tenants' contributions for rent.

A total of $110,232,600 of capital advance funds and $11,142,300 of project rental assistance contract funds was awarded to 99 projects for 1,063 units nationwide. In accordance with section 102(a)(4)(C) of the Department of Housing and Urban Development Reform Act of 1989 (103 Stat. 1987, 42 U.S.C. 3545), the Department is publishing the grantees and amounts of the awards in Appendix A of this document.

Dated: November 20, 2006.
Brian D. Montgomery,
Assistant Secretary for Housing-Federal Housing Commissioner.

Alabama

Section 811—Supportive Housing for Persons With Disabilities

Project Location: Bay Minette, AL

Non-Profit Sponsor: VOA Southeast, Inc.

Capital Advance: $1,620,100

Three-year rental subsidy: $122,400

Number of units: 15

Project Location: Birmingham, AL

Non-Profit Sponsor: UCP of Greater Birmingham

Capital Advance: $654,100

Three-year rental subsidy: $52,500

Number of units: 6

Project Location: Birmingham, AL

Non-Profit Sponsor: Eastside Mental Health Center

Capital Advance: $393,400

Three-year rental subsidy: $26,400

Number of units: 3

Alaska

Section 811—Supportive Housing for Persons With Disabilities

Project Location: Wasilla, AK

Non-Profit Sponsor: Valley Residential Services

Capital Advance: $1,500,700

Three-year rental subsidy: $143,400

Number of units: 8

Arizona

Section 811—Supportive Housing for Persons With Disabilities

Project Location: Mesa, AZ

Non-Profit Sponsor: Accessible Space, Inc.

Capital Advance: $1,462,400

Three-year rental subsidy: $157,800

Number of units: 18

Alabama

Section 811—Supportive Housing for Persons With Disabilities

Project Location: Phoenix, AZ

Non-Profit Sponsor: New Arizona Family, Inc.

Capital Advance: $1,462,600

Three-year rental subsidy: $130,200

Number of units: 14

Arkansas

Section 811—Supportive Housing for Persons With Disabilities

Project Location: Little Rock, AR

Non-Profit Sponsor: Easter Seals Arkansas

Capital Advance: $1,135,900

Three-year rental subsidy: $114,000

Number of units: 15

Project Location: Little Rock, AR

Non-Profit Sponsor: Integrity, Inc.

Capital Advance: $639,900

Three-year rental subsidy: $65,100

Number of units: 8

Project Location: Monticello, AR

Non-Profit Sponsor: Delta Counseling Associates, Inc.

Capital Advance: $767,000

Three-year rental subsidy: $81,300

Number of units: 10

California

Section 811—Supportive Housing for Persons With Disabilities

Project Location: Escondido, CA

Non-Profit Sponsor: T.E.R.I., Inc.

Capital Advance: $538,100

Three-year rental subsidy: $81,600

Number of units: 6

Project Location: North Highlands, CA

Non-Profit Sponsor: VOA—Greater Sac & Northern NV

Capital Advance: $1,778,400

Three-year rental subsidy: $165,600

Number of units: 15

Project Location: Redding, CA

Non-Profit Sponsor: No. Valley Catholic Social Services, Inc.

Capital Advance: $1,783,900

Three-year rental subsidy: $165,600

Number of units: 15

Project Location: San Francisco, CA

Non-Profit Sponsor: Satellite Housing, Inc.

Co-Sponsor: West Bay Housing Corporation

Capital Advance: $2,080,300

Three-year rental subsidy: $235,200

Number of units: 15

Colorado

Section 811—Supportive Housing for Persons With Disabilities

Project Location: Greeley, CO

Non-Profit Sponsor: ASI Inc

Capital Advance: $2,945,500

Three-year rental subsidy: $221,100

Number of units: 23

Connecticut

Section 811—Supportive Housing for Persons With Disabilities

Project Location: New Haven, CT

Non-Profit Sponsor: Continuum of Care, Inc.

Capital Advance: $1,394,600

Three-year rental subsidy: $128,100

Number of units: 10

Delaware

Section 811—Supportive Housing for Persons With Disabilities

Project Location: New Castle, DE

Non-Profit Sponsor: Krysti Bingham CP Foundation, Inc.

Co-Sponsor: Carelink Community Support Services

Capital Advance: $422,300

Three-year rental subsidy: $52,500

Number of units: 4

Project Location: Wilmington, DE

Non-Profit Sponsor: UCP of DE, Inc.

Capital Advance: $789,900

Three-year rental subsidy: $91,500

Number of units: 7

Florida

Section 811—Supportive Housing for Persons With Disabilities

Project Location: Lehigh Acres, FL

Non-Profit Sponsor: Goodwill Industries of SW Florida, Inc.

Capital Advance: $1,616,300

Three-year rental subsidy: $129,900

Number of units: 14

Project Location: St. Petersburg, FL

Non-Profit Sponsor: Boley Centers, Inc.

Capital Advance: $1,404,900

Three-year rental subsidy: $114,900

Number of units: 14

Georgia

Section 811—Supportive Housing for Persons With Disabilities

Project Location: Mableton, GA

Non-Profit Sponsor: Cobb ARC

Capital Advance: $341,000

Three-year rental subsidy: $36,000

Number of units: 4

Project Location: Marietta, GA

Non-Profit Sponsor: Cobb ARC

Capital Advance: $341,000

Three-year rental subsidy: $36,000

Number of units: 4

Illinois

Section 811—Supportive Housing for Persons With Disabilities

Project Location: Crest Hill, IL

Non-Profit Sponsor: Cornerstone Ser Inc

Capital Advance: $582,900

Three-year rental subsidy: $68,400

Number of units: 6

Project Location: Harvard, IL

Non-Profit Sponsor: Over the Rainbow Association

Capital Advance: $2,167,700

Three-year rental subsidy: $170,700

Number of units: 16

Project Location: Quincy, IL

Non-Profit Sponsor: Transitions of Western Illinois Inc.

Capital Advance: $959,600

Three-year rental subsidy: $136,500

Number of units: 12

Project Location: Rock Island, IL

Non-Profit Sponsor: Disciples Uniting in the Quad Cities Inc.

Co-Sponsor: United Church Homes

Capital Advance: $1,529,700

Three-year rental subsidy: $159,300

Number of units: 15

Project Location: Springfield, IL

Non-Profit Sponsor: United Cerebral Palsy Land of Lincoln

Capital Advance: $878,800

Three-year rental subsidy: $114,000

Number of units: 10

Indiana

Section 811—Supportive Housing for Persons With Disabilities

Project Location: Jasper, IN

Non-Profit Sponsor: The Southern Hills Counseling Center, Inc.

Capital Advance: $508,300

Three-year rental subsidy: $60,900

Number of units: 6

Project Location: South Bend, IN

Non-Profit Sponsor: Madison Center, Inc.

Capital Advance: $1,379,000

Three-year rental subsidy: $141,600

Number of units: 15

Iowa

Section 811—Supportive Housing for Persons With Disabilities

Project Location: Council Bluffs, IA

Non-Profit Sponsor: Mosaic

Capital Advance: $1,341,500

Three-year rental subsidy: $92,400

Number of units: 10

Project Location: Missouri Valley, IA

Non-Profit Sponsor: Crossroads of Western Iowa

Capital Advance: $1,315,000

Three-year rental subsidy: $92,400

Number of units: 10

Kansas

Section 811—Supportive Housing for Persons With Disabilities

Project Location: Shawnne, KS

Non-Profit Sponsor: Accessible Space Inc

Capital Advance: $1,623,900

Three-year rental subsidy: $165,000

Number of units: 17

Kentucky

Section 811—Supportive Housing for Persons With Disabilities

Project Location: Louisville, KY

Non-Profit Sponsor: New Directions Housing Corporation

Co-Sponsor: Wellspring

Capital Advance: $693,700

Three-year rental subsidy: $76,200

Number of units: 8

Project Location: Louisville, KY

Non-Profit Sponsor: Dreams With Wings Inc.

Capital Advance: $693,700

Three-year rental subsidy: $76,200

Number of units: 8

Louisiana

Section 811—Supportive Housing for Persons With Disabilities

Project Location: Arcadia, LA

Non-Profit Sponsor: Macon Ridge Community Development Corp.

Capital Advance: $1,122,800

Three-year rental subsidy: $122,400

Number of units: 15

Project Location: Ferriday, LA

Non-Profit Sponsor: Macon Ridge Community Development Corp.

Capital Advance: $1,137,800

Three-year rental subsidy: $122,400

Number of units: 15

Maine

Section 811—Supportive Housing for Persons With Disabilities

Project Location: Belfast, ME

Non-Profit Sponsor: Group Home Foundation, Inc.

Capital Advance: $644,200

Three-year rental subsidy: $55,500

Number of units: 5

Project Location: Lewiston, ME

Non-Profit Sponsor: John F. Murphy Homes, Inc.

Capital Advance: $773,000

Three-year rental subsidy: $55,500

Number of units: 6

Maryland

Section 811—Supportive Housing for Persons With Disabilities

Project Location: Gaithersburg, MD

Non-Profit Sponsor: St. Luke's House Inc.

Capital Advance: $1,518,200

Three-year rental subsidy: $123,300

Number of units: 11

Project Location: Lanham, MD

Non-Profit Sponsor: Guide Program Inc.

Capital Advance: $916,900

Three-year rental subsidy: $134,400

Number of units: 12

Project Location: Silver Spring, MD

Non-Profit Sponsor: Montgomery County Coalition for the Homeless

Capital Advance: $672,800

Three-year rental subsidy: $89,700

Number of units: 8

Massachusetts

Section 811—Supportive Housing for Persons With Disabilities

Project Location: Pittsfield, MA

Non-Profit Sponsor: Berkshire County Arc

Capital Advance: $576,200

Three-year rental subsidy: $84,900

Number of units: 6

Project Location: Topsfield, MA

Non-Profit Sponsor: North Shore Arc Inc.

Capital Advance: $509,500

Three-year rental subsidy: $56,700

Number of units: 4

Michigan

Section 811—Supportive Housing for Persons With Disabilities

Project Location: Westland, MI

Non-Profit Sponsor: Liberty Hill Housing Corporation

Capital Advance: $1,195,100

Three-year rental subsidy: $102,000

Number of units: 9

Minnesota

Section 811—Supportive Housing for Persons With Disabilities

Project Location: Red Lake, MN

Non-Profit Sponsor: Red Lake Homeless Shelter, Inc.

Capital Advance: $1,738,800

Three-year rental subsidy: $154,200

Number of units: 14

Project Location: Sartell, MN

Non-Profit Sponsor: National Handicap Housing Institute, Inc.

Capital Advance: $1,675,800

Three-year rental subsidy: $165,000

Number of units: 16

Missouri

Section 811—Supportive Housing for Persons With Disabilities

Project Location: Kansas City, MO

Non-Profit Sponsor: Center for the Developmentally Disabled

Capital Advance: $1,401,600

Three-year rental subsidy: $144,300

Number of units: 15

Project Location: St. Joseph, MO

Non-Profit Sponsor: Progressive Connections

Capital Advance: $1,401,600

Three-year rental subsidy: $15,300

Number of units: 15

Nebraska

Section 811—Supportive Housing for Persons With Disabilities

Project Location: Lincoln, NE

Non-Profit Sponsor: CenterPointe

Capital Advance: $882,100

Three-year rental subsidy: $93,000

Number of units: 10

Nevada

Section 811—Supportive Housing for Persons With Disabilities

Project Location: Henderson, NV

Non-Profit Sponsor: Accessible Space, Inc.

Capital Advance: $3,272,200

Three-year rental subsidy: $255,600

Number of units: 25

New Jersey

Section 811—Supportive Housing for Persons With Disabilities

Project Location: Roosevelt, NJ

Non-Profit Sponsor: Community Options, Inc.

Capital Advance: $444,600

Three-year rental subsidy: $54,300

Number of units: 3

Project Location: Roosevelt, NJ

Non-Profit Sponsor: Community Options, Inc.

Capital Advance: $444,600

Three-year rental subsidy: $54,300

Number of units: 3

Project Location: Stillwater, NJ

Non-Profit Sponsor: SCARC, Inc

Capital Advance: $1,014,000

Three-year rental subsidy: $180,600

Number of units: 10

Project Location: Whippany, NJ

Non-Profit Sponsor: Jewish Services for Dev.Disabled of MetroWest Inc.

Capital Advance: $538,100

Three-year rental subsidy: $108,300

Number of units: 6

Project Location: Woodstown, NJ

Non-Profit Sponsor: Collaborative Support Program of NJ

Capital Advance: $1,172,500

Three-year rental subsidy: $84,600

Number of units: 6

New Mexico

Section 811—Supportive Housing for Persons with Disabilities

Project Location: Farmington, NM

Non-Profit Sponsor: Mosaic

Capital Advance: $881,700

Three-year rental subsidy: $93,000

Number of units: 10

Project Location: Las Vegas, NM

Non-Profit Sponsor: Albuquerque Mental Health Housing Coalition

Co-Sponsor: The Samaritan House Inc.

Capital Advance: $1,183,000

Three-year rental subsidy: $130,200

Number of units: 15

New York

Section 811—Supportive Housing for Persons with Disabilities

Project Location: Hamburg, NY

Non-Profit Sponsor: Community Services for the Developmentally Disabled

Capital Advance: $1,281,700

Three-year rental subsidy: $135,300

Number of units: 12

Project Location: Hicksville, NY

Non-Profit Sponsor: Nassau AHRC

Capital Advance: $951,700

Three-year rental subsidy: $166,800

Number of units: 8

Project Location: Nanuet, NY

Non-Profit Sponsor: Rockland Co. Chapter, NYSARC, Inc.

Capital Advance: $1,521,000

Three-year rental subsidy: $312,900

Number of units: 15

Project Location: Patchogue, NY

Non-Profit Sponsor: Options for Community Living, Inc.

Capital Advance: $1,717,000

Three-year rental subsidy: $250,200

Number of units: 12

Project Location: Selden, NY

Non-Profit Sponsor: Options for Community Living, Inc.

Capital Advance: $1,717,000

Three-year rental subsidy: $250,200

Number of units: 12

North Carolina

Section 811—Supportive Housing for Persons with Disabilities

Project Location: Fayetteville, NC

Non-Profit Sponsor: Abilities of Florida, Inc.

Capital Advance: $1,522,800

Three-year rental subsidy: $132,900

Number of units: 14

Project Location: Salisbury, NC

Non-Profit Sponsor: Arc of North Carolina, Inc.

Capital Advance: $800,800

Three-year rental subsidy: $76,200

Number of units: 8

Project Location: Wilmington, NC

Non-Profit Sponsor: MHA in NC, Inc.

Co-Sponsor: NC Mental Health Consumers Organization, Inc.

Capital Advance: $483,100

Three-year rental subsidy: $47,700

Number of units: 5

North Dakota

Section 811—Supportive Housing for Persons with Disabilities

Project Location: Bismarck, ND

Non-Profit Sponsor: Community Homes of Bismarck Inc.

Capital Advance: $892,000

Three-year rental subsidy: $68,400

Number of units: 8

Ohio

Section 811—Supportive Housing for Persons with Disabilities

Project Location: Burton, OH

Non-Profit Sponsor: Famicos Foundation

Capital Advance: $898,800

Three-year rental subsidy: $90,900

Number of units: 8

Project Location: Cincinnati, OH

Non-Profit Sponsor: The Resident Home Corporation

Capital Advance: $872,400

Three-year rental subsidy: $81,600

Number of units: 8

Project Location: Cleveland Heights, OH

Non-Profit Sponsor: Jewish Community Housing Inc.

Co-Sponsor: Jewish Family Service Association

Capital Advance: $1,024,800

Three-year rental subsidy: $124,800

Number of units: 11

Project Location: Cleveland Heights, OH

Non-Profit Sponsor: Jewish Family Service Association

Co-Sponsor: Jewish Community Housing Inc.

Capital Advance: $418,100

Three-year rental subsidy: $68,100

Number of units: 6

Project Location: Gahanna, OH

Non-Profit Sponsor: Creative Housing, Inc

Capital Advance: $857,300

Three-year rental subsidy: $100,500

Number of units: 10

Project Location: Medina, OH

Non-Profit Sponsor: Medina Creative Housing Inc.

Capital Advance: $745,300

Three-year rental subsidy: $90,900

Number of units: 8

Project Location: Oak Harbor, OH

Non-Profit Sponsor: Luther Home of Mercy

Capital Advance: $1,171,700

Three-year rental subsidy: $136,200

Number of units: 12

Oklahoma

Section 811—Supportive Housing for Persons with Disabilities

Project Location: Shawnee, OK

Non-Profit Sponsor: Faith 7 Activity Center

Capital Advance: $1,213,100

Three-year rental subsidy: $131,100

Number of units: 16

Pennsylvania

Section 811—Supportive Housing for Persons with Disabilities

Project Location: Aliquippa, PA

Non-Profit Sponsor: Passavant Memorial Homes

Capital Advance: $388,600

Three-year rental subsidy: $41,100

Number of units: 4

Project Location: Erie, PA

Non-Profit Sponsor: HANDS Inc.

Capital Advance: $561,900

Three-year rental subsidy: $61,800

Number of units: 6

Project Location: Erie, PA

Non-Profit Sponsor: HANDS Inc.

Capital Advance: $749,300

Three-year rental subsidy: $82,200

Number of units: 8

Project Location: Jeanette, PA

Non-Profit Sponsor: Passavant Memorial Homes

Capital Advance: $777,200

Three-year rental subsidy: $82,200

Number of units: 8

Project Location: Mercer, PA

Non-Profit Sponsor: Arc of Mercer County Foundation

Capital Advance: $388,600

Three-year rental subsidy: $41,100

Number of units: 4

Project Location: Philadelphia, PA

Non-Profit Sponsor: Ken Crest Centers

Capital Advance: $1,734,200

Three-year rental subsidy: $169,800

Number of units: 12

Puerto Rico

Section 811—Supportive Housing for Persons With Disabilities

Project Location: Patillas, PR

Non-Profit Sponsor: CATPI, Inc.

Capital Advance: $457,400

Three-year rental subsidy: $52,500

Number of units: 6

Project Location: Patillas, PR

Non-Profit Sponsor: CATPI, Inc.

Capital Advance: $1,315,900

Three-year rental subsidy: $105,000

Number of units: 13

Rhode Island

Section 811—Supportive Housing for Persons With Disabilities

Project Location: Bristol, RI

Non-Profit Sponsor: Operation Stand Down Rhode Island

Capital Advance: $1,500,800

Three-year rental subsidy: $132,000

Number of units: 10

South Carolina

Section 811—Supportive Housing for Persons With Disabilities

Project Location: Orangeburg, SC

Non-Profit Sponsor: Mental Health Association of SC

Capital Advance: $1,470,800

Three-year rental subsidy: $122,400

Number of units: 14

Project Location: Spartanburg, SC

Non-Profit Sponsor: Spartanburg Leased Housing Corporation

Capital Advance: $1,582,400

Three-year rental subsidy: $122,400

Number of units: 15

South Dakota

Section 811—Supportive Housing for Persons With Disabilities

Project Location: Sioux Falls, SD

Non-Profit Sponsor: VOA National Services

Capital Advance: $2,327,800

Three-year rental subsidy: $169,500

Number of units: 21

Tennessee

Section 811—Supportive Housing for Persons With Disabilities

Project Location: Columbia, TN

Non-Profit Sponsor: Place of Hope, Inc.

Capital Advance: $1,211,600

Three-year rental subsidy: $117,900

Number of units: 15

Project Location: Crossville, TN

Non-Profit Sponsor: Creative Compassion, Inc.

Capital Advance: $852,300

Three-year rental subsidy: $87,600

Number of units: 10

Project Location: Lebanon, TN

Non-Profit Sponsor: Prospect, Inc.

Capital Advance: $950,500

Three-year rental subsidy: $75,900

Number of units: 9

Project Location: Nashville, TN

Non-Profit Sponsor: Spruce Street Baptist Community Development Inc.

Capital Advance: $1,292,400

Three-year rental subsidy: $129,300

Number of units: 16

Texas

Section 811—Supportive Housing for Persons With Disabilities

Project Location: Austin, TX

Non-Profit Sponsor: UCP of TX Inc.

Capital Advance: $713,600

Three-year rental subsidy: $87,300

Number of units: 10

Project Location: Houston, TX

Non-Profit Sponsor: UCP of Greater Houston, Inc.

Capital Advance: $573,700

Three-year rental subsidy: $47,400

Number of units: 5

Project Location: Houston, TX

Non-Profit Sponsor: UCP of Greater Houston, Inc.

Capital Advance: $1,130,300

Three-year rental subsidy: $132,000

Number of units: 15

Project Location: Orange, TX

Non-Profit Sponsor: Plan of South East Texas

Capital Advance: $1,502,000

Three-year rental subsidy: $179,100

Number of units: 20

Utah

Section 811—Supportive Housing for Persons With Disabilities

Project Location: Brigham City, UT

Non-Profit Sponsor: Neighborhood Non-Profit Housing Corp.

Capital Advance: $2,161,000

Three-year rental subsidy: $176,400

Number of units: 21

Virginia

Section 811—Supportive Housing for Persons With Disabilities

Project Location: Danville, VA

Non-Profit Sponsor: Danville-Pittsylvania Community Services

Capital Advance: $758,200

Three-year rental subsidy: $88,500

Number of units: 9

Project Location: Martinsville, VA

Non-Profit Sponsor: Piedmont Regional Community Services Board

Capital Advance: $399,100

Three-year rental subsidy: $59,100

Number of units: 6

Washington

Section 811—Supportive Housing for Persons With Disabilities

Project Location: Spokane, WA

Non-Profit Sponsor: Spokane Mental Health

Capital Advance: $2,008,200

Three-year rental subsidy: $200,700

Number of units: 19

Wisconsin

Section 811—Supportive Housing for Persons With Disabilities

Project Location: Wisconsin Rapids, WI

Non-Profit Sponsor: Impact Seven, Inc.

Capital Advance: $972,500

Three-year rental subsidy: $82,500

Number of units: 9

[FR Doc. E6-20381 Filed 12-1-06; 8:45 am]

BILLING CODE 4210-67-P